DEPARTMENT OF TRANSPORTATION

Federal Transit Administration

Technical Assistance Needs in Human Service Transportation Coordination

AGENCY: Federal Transit Administration (FTA), DOT.

ACTION: Notice; request for comments.

SUMMARY: This notice is soliciting comment on technical assistance needs in human service transportation coordination.

DATES: Comments must be submitted by June 15, 2005.

ADDRESSES: Comments are to be submitted via fax or electronic format. Comments may be faxed to Elizabeth Solomon, United We Ride Office, at 202-366-3136. Comments submitted in electronic form may be sent to unitedweride@fta.dot.gov

FOR FURTHER INFORMATION CONTACT: Elizabeth Solomon at 202-366-0242; FAX: 202-366-3136.

SUPPLEMENTARY INFORMATION: Personal mobility is something easily taken for granted. For many people, this means merely starting the car or walking to the subway. However, an increasing number of Americans are unable to get to work, run errands, or access medical care simply because they do not have reliable transportation. In 2000, the number of older adults was more than 30 million, and is expected to double by 2030. To date, almost 54 million people were reported to have disabilities. Many are individuals who cannot operate a vehicle because of medical conditions, disabilities, or other limitations. In addition, there are others who are unable to afford their own automobile, or live in areas without public transportation options. “Human service transportation” means meeting the basic, day-to-day mobility needs of transportation-disadvantaged populations, especially individuals with low-incomes, people with disabilities, and older Americans. The family of human service transportation services supported by Federal programs includes much more than dedicated buses or vans. It includes programs that reimburse consumers for taxi or public transportation use, provide bus tokens, purchase or modify private vehicles, reimburse consumers for gas and vehicle operating costs, operate school bus service, and provide technical assistance for transportation planning.

There are many reasons to be concerned about human service transportation today. Specifically, the lack of transportation affects an individual's independence and opportunity. However, human service transportation is not just about improving individual lives, it is about improving all facets of our economy, culture, and society that rely on transportation systems to work effectively at the community level. When transportation does not work, other things—our healthcare system, our economy, and our civic culture—cannot work at their best, either. Reliable transportation is both a prerequisite for a healthy economy and often the first step toward independence and opportunity for people with low incomes, older adults, and people with disabilities. Individuals who are transportation-disadvantaged face different challenges in accessing services depending on whether they live in urban, rural, or suburban areas. The geographic dispersion of transportation-disadvantaged populations also creates challenges for human service programs hoping to deliver transportation for their consumers.

In recognition of the fundamental importance of human service transportation and the continuing need to enhance coordination to maximize mobility, President Bush issued Executive Order 13330 on Human Service Transportation, in February 2004, directing 10 Federal departments and agencies to work together to ensure that transportation services are seamless, comprehensive and accessible. The Executive Order includes establishing a new Interagency Transportation Coordinating Council on Access and Mobility (CCAM). Specifically, the CCAM is tasked with seeking ways to simplify access to transportation services for persons with disabilities, persons with lower incomes, and older adults. The Executive Order requires that CCAM work together to provide the most appropriate, cost effective services within existing resources, and reduce duplication to make funds available for more services.

During the past year, the CCAM has launched United We Ride, a national initiative to implement the Executive Order, which is intended to simplify access, reduce duplication of Federal rules and regulations, and increase cost efficiencies using existing resources. To affectively implement United We Ride, the CCAM has developed a comprehensive action plan.

Issues for Exploration

One of the consistent needs identified by Council members is the provision of technical assistance to provide transportation agencies, human service providers, consumers, and other community agencies with specific knowledge and information related to human service transportation. Technical assistance (TA) is a process within a dynamic context that enables a goal focused, strategy oriented, accountable organization to transfer knowledge to clients for the purpose of their growth, change, and improvement (National Early Childhood Technical Assistance System, 2001). TA is intended to provide extensive information and assistance to facilitate adoption or application of research-based or practice-based products, policies, or knowledge in order to improve the provision of services and ultimately impact outcomes for target populations who are the beneficiaries of the services (National Association of State Directors of Special Education, 2001). TA may include, information dissemination, training, and enhancing capacity for building more efficient transportation services at the local and state levels. The overarching goals of this TA is to facilitate the expansion of transportation services and options for older persons, persons with disabilities and low income persons in their local communities. A key strategy to accomplish this expansion of service is coordination of transportation programs and initiatives.

We are soliciting the views of the transportation industry, human service providers, and consumers of human transportation services specifically on the TA needs in the area of human service transportation expansion through coordination and other pertinent strategies. We seek specific information about TA strategies, topics, and approaches that would be useful to facilitate enhanced coordination and transportation services for people with disabilities, older adults, and people with lower incomes at the local level. The public is invited to share their views on existing technical assistance efforts and/or identify thoughts about future options for delivering effective technical assistance to the field. Your comments can be drawn from personal and/or professional experiences you have as a human service provider, a transportation agency, a state agency, or as a consumer of transportation services. Your comments may also include familiar practices that would be valuable to share among other people who provide services, or unmet needs that you may face at the state and/or local level.

Specifically, we ask that you address one or more of the following or a related issues: Topics for TA: Are there specific topics/issues that you, your community, or your agency would find useful in advancing human service transportation.

Strategies for TA: What types of TA, information and/or training would be helpful to you, your community, or your agency-in advancing human service transportation coordination? What types of formats and strategies (e.g., audio, visual, face to face, internet, newsletters, peer to peer, etc.) do you find most helpful and useful for learning new information?

Experiences with TA: Do you have experience and/or examples with successful technical assistance strategies that have been useful for you, your community, or your agency? Please include any additional information that you believe will be helpful for enhancing TA in the area of human service transportation coordination.

Listening Sessions

In addition to the submission of written comments, members of the CCAM Workgroup on TA will also conduct up to five “Listening Sessions“ during meetings hosted by national organizations being held across the country. Organizations interested in hosting a listening session on TA in human service transportation coordination, should submit a written request to unitedweride@fta.dot.gov no later than May 1, 2005. Date and times for listening sessions will be posted at unitedweride@fta.dot.gov.

Dated: March 3, 2005.
Jennifer L. Dorn,
FTA Administrator.

[FR Doc. 05-4609 Filed 3-8-05; 8:45 am]

BILLING CODE 4910-57-M